DEPARTMENT OF TRANSPORTATION

Federal Railroad Administration

Petitions for Waivers of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested and the petitioner's arguments in favor of relief.

Port of Los Angeles

[Docket Number FRA-2001-10237]

The Port of Los Angeles, with the cooperation and input of Pacific Harbor Lines, Inc., seeks a permanent waiver of compliance from certain CFR parts of Title 49, specifically: Part 217—Railroad Operating Rules; Part 220—Railroad Communications; Part 221—Rear End Marking Device—Passenger, Commuter and Freight Trains; Part 223—Safety Glazing Standards—Locomotives, Passenger Cars and Cabooses; Part 225—Railroad Accident/Incident Reporting; Part 228—Hours of Service of Railroad Employees, Subpart A, General and Subpart B, Records and Reporting; Part 229—Locomotive Safety Standards; Part 231—Railroad Safety Appliance Standards; Part 238—Passenger Equipment Safety Standards; and Part 239—Passenger Train Emergency Preparedness.

The Port of Los Angeles seeks approval of shared track usage and waiver of certain FRA regulations involving the “Waterfront Red Car Line” vintage trolley operation on the same track that would be shared with freight trains operated by Pacific Harbor Line, Inc. FRA currently has jurisdiction over the Pacific Harbor Line, Inc., a railroad operation which is connected to the general railroad system of transportation. Specifically, the Port of Los Angeles intends for the “Waterfront Red Car Line “ to make use of 1.5 miles of the Pacific Harbor Line, Inc., located in the Port of Los Angeles. Freight and vintage trolley operations would be temporally separated on this portion of track. See Statement of Agency Policy Concerning Jurisdiction Over the Safety of Railroad Passenger Operations and Waivers Related to Shared Use of the Tracks of the General Railroad System by Light Rail and Conventional Equipment at 65 FR 42529 (July 10, 2000). See also Joint Statement of Agency Policy Concerning Shared Use of the Tracks of the General Railroad System by Conventional Railroads and Light Rail Transit Systems at 65 FR 42626 (July 10, 2000).

Since FRA has not yet concluded its investigation of the “Waterfront Red Car Line” vintage trolley, the agency takes no position at this time on the merits of the stated justifications of the Port of Los Angeles.

All communications concerning these proceedings should identify the appropriate docket number (Docket Number FRA 2001-10237) and must be submitted to the DOT Docket Management Facility, Room PL-401 (Plaza level) 400 Seventh Street, SW., Washington, DC 20590. All documents in the public docket, including the detailed waiver request of the Port of Los Angeles, are also available for inspection and copying on the Internet at the docket facility's Web site at http://dms.dot.gov. Communications received within 45 days of the date of this notice will be considered by FRA before final action is taken. Comments received after that date will be considered as far as practicable. All written communications concerning this proceeding are available for examination during regular business hours (9 a.m.-5 p.m.) at the above facility.

Issued in Washington, DC on August 15, 2001.
Grady C. Cothen, Jr.,
Deputy Associate Administrator for Safety Standards and Program Development.

[FR Doc. 01-21082 Filed 8-20-01; 8:45 am]

BILLING CODE 4910-06-P